DEPARTMENT OF HEALTH AND HUMAN SERVICES

Administration for Children and Families

Submission for Office of Management and Budget (OMB) Review; Sexual Risk Avoidance Education Program Performance Analysis Study—Extension (OMB #0970-0536).

AGENCY: Office of Planning, Research, and Evaluation, Administration for Children and Families, U.S. Department of Health and Human Services.

ACTION: Request for public comments.

SUMMARY: The Office of Planning, Research, and Evaluation (OPRE) and the Family and Youth Services Bureau in the Administration for Children and Families (ACF) request an extension without changes of a currently approved information collection activity as part of the Sexual Risk Avoidance Education (SRAE) Program Performance Analysis Study (PAS). The goal of the study is to collect, analyze, and report on performance measures data for the SRAE program (OMB Control No. 0970-0536; expiration date January 31, 2025). The purpose of the requested extension is to continue the ongoing data collection and submission of the performance measures by SRAE grant recipients. Minor updates were identified to incorporate into the OMB-approved versions of instruments.

DATES: Comments due December 20, 2024. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing OPREinfocollection@acf.hhs.gov. Identify all requests by the title of the information collection.

SUPPLEMENTARY INFORMATION:

Description: The purpose of the SRAE program is to educate youth on how to voluntarily refrain from nonmarital sexual activity and prevent other youth risk behaviors. Data will continue to be used to determine if the SRAE grant recipients are meeting performance benchmarks related to their program's mission and priorities.

The SRAE PAS collects performance measures data from SRAE grant recipients, program providers, and participants. The data include information on program structure, cost, and support for implementation; program attendance, reach, and dosage; the characteristics of youth involved in programming; youth sexual and other risky behavior prior to program participation; and youth sexual and other risky behavior intentions at program exit. The performance measures help the ACF program office and grant recipients to monitor and report on progress in implementing SRAE programs and inform technical assistance.

Some of the performance measures data come from youth participants through surveys SRAE grant recipients administer at program entry and exit. There are separate versions of the entry and exit surveys for middle school youth, which exclude some of the more sensitive items that are included in the versions for high school and older youth. There is also a shorter version of the entry survey for programs conducting impact studies, to reduce the burden on participants in those programs who are likely responding to other surveys as part of their impact study. Although there was a version of the exit survey for programs conducting impact studies in the past, it was removed through the previous OMB request, and youth in these programs now complete the same version of the exit survey as other youth.

ACF is currently working on future revisions to this information collection, which will be submitted to OMB for review and approval in 2025. Notices inviting public comment on those revisions will accompany that request, but comments received in response to this notice could also inform those revisions. Through this request process minor discrepancies were noted between the OMB-approved instruments and those currently in use. These minor errors were fixed in the versions included with the request to OMB.

Respondents: General Departmental (GDSRAE), State (SSRAE), and Competitive (CSRAE) grant recipients, their subrecipients, and program participants.

Annual Burden Estimates
Instrument | Number of respondents (total over request period) | Number of responses per respondent (total over request period) | Avg. burden per response (in hours) | Total/ annual burden (in hours)
(1) Participant Entry Survey
GDSRAE participants | 126,130 | 1 | 0.1333 | 16,813
SSRAE participants | 317,633 | 1 | 0.1333 | 42,340
CSRAE participants | 20,136 | 1 | 0.1333 | 2,684
(2) Participant Exit Survey
GDSRAE participants | 100,904 | 1 | 0.1667 | 16,821
SSRAE participants | 254,106 | 1 | 0.1667 | 42,360
CSRAE participants | 16,109 | 1 | 0.1667 | 2,685
(3) Performance reporting data entry form: grant recipients
GDSRAE grant recipients | 119 | 2 | 16 | 3,808
SSRAE grant recipients | 39 | 2 | 16 | 1,248
CSRAE grant recipients | 34 | 2 | 16 | 1,088
(4) Performance reporting data entry form: subrecipients
GDSRAE subrecipients | 252 | 2 | 13 | 6,552
SSRAE subrecipients | 426 | 2 | 13 | 11,076
CSRAE subrecipients | 63 | 2 | 13 | 1,638

Estimated Total Annual Burden Hours: 149,113.

Authority: 42 U.S.C. 1310.

Mary C. Jones,
ACF/OPRE Certifying Officer.

[FR Doc. 2024-27053 Filed 11-19-24; 8:45 am]

BILLING CODE 4184-83-P